DEPARTMENT OF EDUCATION

[CFDA Nos: 84.031S, 84.031A, 84.031T, 84.031N, 84.031W]

Office of Postsecondary Education; Developing Hispanic-Serving Institutions, Strengthening Institutions, American Indian Tribally Controlled Colleges and Universities, and Alaska Native and Native Hawaiian-Serving Institutions Programs; Notice Inviting Participants to Pre-Application Technical Assistance Workshop for Prospective Fiscal Year (FY) 2002 Applicants

SUMMARY: The Department of Education, Office of Postsecondary Education, will conduct a technical assistance workshop for prospective applicants for funding under the following programs: The Developing Hispanic-Serving Institutions (HSI) Program, authorized under Title V of the Higher Education Act of 1965, as amended (HEA); and the Strengthening Institutions Program, American Indian Tribally Controlled Colleges and Universities, and Alaska Native and Native Hawaiian-Serving Institutions Programs authorized under Title III, Part A of the HEA. At this workshop, Department staff will assist prospective applicants in preparing individual development, cooperative arrangement and planning grant applications under the Title III, Part A programs; and in preparing individual development and cooperative arrangement grant applications under the HSI program. Additionally, assistance will be provided in preparing eligibility data. Department staff also will provide budget information as well as deal with project design issues.

The Department is holding this workshop to give early assistance to potential applicants even though we have not yet received appropriations for these programs or officially announced a closing date for receipt of applications.

SUPPLEMENTARY INFORMATION: The technical assistance workshop will be held as follows:

Date: Wednesday, December 5, 2001.

Time: 8:30 am-4:30 pm.

Location: University of the District of Columbia, 4200 Connecticut Ave., NW, Building 41 A03 Auditorium, Washington, DC 20008.

Contact: Cynthia Belton.

E-mail: cbelton@firebirds.udc.edu.

Fax: 202-274-5304 Cynthia Belton.

Telephone: 202-274-5100.

The contact person at the hosting institution listed previously serves as an emergency contact in the event that anyone needs to reach a workshop attendee during the workshop. We ask that this individual be contacted only in an emergency. Please contact the Department of Education contact persons cited under FOR FURTHER INFORMATION CONTACT if you have any questions about the details of the meeting. You will need to pre-register at our web site cited under FOR FURTHER INFORMATION CONTACT; however, there is no registration fee.

Assistance to Individuals With Disabilities at the Technical Assistance Workshop

The technical assistance workshop site is accessible to individuals with disabilities. If you will need an auxiliary aid or service to participate in the workshop (e.g., interpreting service, assistive listening device or materials in an alternative format), notify the contact person listed under FOR FURTHER INFORMATION CONTACT at least two weeks before the scheduled workshop date. Although we will attempt to meet a request we receive after this date, we may not be able to make available the requested auxiliary aid or service because of insufficient time to arrange it.

FOR FURTHER INFORMATION CONTACT: Darlene B. Collins, Title III, Part A Team Leader or Carnisia Proctor, Title V-Developing Hispanic-Serving Institutions Program, Office of Postsecondary Education, U.S. Department of Education, 1990 K Street, NW., 6th Floor, Room 6049, Washington, DC 20202-5335. Telephone number: (202) 502-7777 for Mrs. Collins, and (202) 502-7606 for Ms. Proctor, or via Internet:

darlene.collins@ed.gov

carnisia.proctor@ed.gov

If you use a telecommunications device for the deaf (TDD), you may call the Federal Information Relay Service (FIRS) at 1-800-877-8339.

Registration information and the registration form for the technical assistance workshop will be posted on the internet at the following sites:

For Title III— http://www.ed.gov/offices/OPE/HEP/idues/title3a

For Title V— http://www.ed.gov/hsi

Individuals with disabilities may obtain this document in an alternative format (e.g., Braille, large print, audiotape, or computer diskette) on request to the program contact persons listed under FOR FURTHER INFORMATION CONTACT.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 1057-1059d, 1101-1103g.

Dated: November 13, 2001.
Maureen A. McLaughlin,
Deputy Assistant Secretary for Policy, Planning and Innovation, Office of Postsecondary Education.

[FR Doc. 01-28730 Filed 11-15-01; 8:45 am]

BILLING CODE 4000-01-U